NATIONAL AERONAUTICS AND SPACE ADMINISTRATION

[Notice 00-056]

Notice of Agency Report Forms Under OMB Review

AGENCY: National Aeronautics and Space Administration (NASA).

SUMMARY: The National Aeronautics and Space Administration, as part of its continuing effort to reduce paperwork and respondent burden, invites the general public and other Federal agencies to take this opportunity to comment on proposed and/or continuing information collections, as required by the Paperwork Reduction Act of 1995 (Public Law 104-13, 44 U.S.C. 3506(c)(2)(A)). The reports will be used to evaluate the use of uncompensated overtime in bids and proposals submitted to NASA for the award of contracts for technical and professional services in support of NASA's mission and in response to contractual requirements. The requirement is stated in 48 CFR 1831.205-670, 1831.205-671, and 1851.231-71.

DATES: All comments should be submitted on or before July 30, 2000.

ADDRESSES: All comments should be addressed to Mr. Richard Kall, Code HK, National Aeronautics and Space Administration, Washington, DC 20546-0001.

FOR FURTHER INFORMATION CONTACT: Ms. Carmela Simonson, NASA Reports Officer, (202) 358-1223.

Title: Uncompensated Overtime.

OMB Number: 2700-0080.

Type of review: Extension.

Need and Uses: Uncompensated overtime information is used to determine (i) whether a contractor will be able to hire and retain qualified individuals, (ii) whether uncompensated overtime hours will be properly accounted, and (iii) the validity of the proposed uncompensated hours.

Affected Public: Business or other for-profit.

Number of Respondents: 657.

Responses Per Respondent: 1.

Annual Responses: 650.

Hours Per Request: 3¼.

Annual Burden Hours: 2113.

Frequency of Report: Annually.

David B. Nelson,
Deputy Chief Information Officer, Office of the Administrator.

[FR Doc. 00-13352 Filed 5-26-00; 8:45 am]

BILLING CODE 7510-01-P